DEPARTMENT OF THE INTERIOR

Bureau of Land Management

[LLCO956000 L14200000.BJ0000]

Notice of Filing of Plats of Survey; Colorado

AGENCY: Bureau of Land Management, Interior.

ACTION: Notice of Filing of Plats of Survey; Colorado

SUMMARY: The Bureau of Land Management (BLM) Colorado State Office is publishing this notice to inform the public of the intent to officially file the survey plats listed below and afford a proper period of time to protest this action prior to the plat filing. During this time, the plats will be available for review in the BLM Colorado State Office.

DATES: Unless there are protests of this action, the filing of the plats described in this notice will happen on May 8, 2013.

ADDRESSES: BLM Colorado State Office, Cadastral Survey, 2850 Youngfield Street, Lakewood, Colorado 80215-7093.

FOR FURTHER INFORMATION CONTACT: Randy Bloom, Chief Cadastral Surveyor for Colorado, (303) 239-3856.

Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: The plat, in 2 sheets, and field notes of the dependent resurvey and survey in Township 27 South, Range 73 West, Sixth Principal Meridian, Colorado, were accepted March 6, 2013.

The plat, in 2 sheets, and field notes of the dependent resurvey and metes-and-bounds survey, Great Sand Dunes National Park, in Townships 39 and 40 North, Ranges 12 and 13 East, New Mexico Principal Meridian, Colorado, were accepted on March 6, 2013.

The plat and field notes of the metes-and-bounds survey of Tract 38 in unsurveyed sections 15, 16, 21, and 22, in Township 48 North, Range 6 East, New Mexico Principal Meridian, Colorado, were accepted on March 13, 2013.

The plat and field notes of the dependent resurvey and survey in Township 34 North, Range 9 West, North of the Ute Line, New Mexico Principal Meridian, were accepted on March 14, 2013.

The plat and field notes of the dependent resurvey and survey in Township 6 North, Range 97 West, Sixth Principal Meridian, were accepted on March 26, 2013.

Randy Bloom,
Chief Cadastral Surveyor for Colorado.

[FR Doc. 2013-08049 Filed 4-5-13; 8:45 am]

BILLING CODE 4310-JB-P